ENVIRONMENTAL PROTECTION AGENCY

40 CFR Part 52

[TX-154-1-7590; FRL-7585-8]

Approval and Promulgation of Implementation Plans; Texas; Revisions to Regulations for Permits by Rule, Control of Air Pollution by Permits for New Construction or Modification, and Federal Operating Permits

Correction

In rule document 03-28416 beginning on page 64543 in the issue of Friday, November 14, 2003, make the following correction:

§52.2270 [Corrected]

On page 64549, in §52.2270(c), in the table, under Subchapter F—Standard Permits, in the last column, the first entry should read “The SIP does not include section 116.601(a)(1).”

[FR Doc. C3-28416 Filed 11-21-03; 8:45 am]

BILLING CODE 1505-01-D